DEPARTMENT OF TRANSPORTATION

Federal Aviation Administration

Aviation Rulemaking Advisory Committee; Air Carrier Operations Issues—New Task

AGENCY: Federal Aviation Administration (FAA), DOT.

ACTION: Notice of a new task for the Aviation Rulemaking Advisory Committee (ARAC).

SUMMARY: Notice is given of new tasks assigned to and accepted by the Aviation Rulemaking Advisory Committee (ARAC). This notice tells the public of the activities of ARAC.

FOR FURTHER INFORMATION CONTACT: Kathy Abbott, Federal Aviation Administration, Regulation and Certification, 800 Independence Ave., SW., Washington, DC 20591; telephone: 202-267-7192.

SUPPLEMENTARY INFORMATION:

Background

The FAA established the Aviation Rulemaking Advisory Committee to provide advice and recommendations to the FAA Administrator, through the Associate Administrator for Regulation and Certification, on the full range of the FAA's rulemaking activities about aviation-related issues. This includes getting advice and recommendations on the FAA's commitment to harmonize its Federal Aviation Regulations (FAR) and practices with its trading partners in Europe and Canada.

One area ARAC deals with is air carrier operations issues. These issues involve the operational requirements for air carriers, including crewmember requirements, airplane operating performance and limitations, and equipment requirements.

The Task

This notice is to tell the public the FAA has asked ARAC to provide advice and recommendation on the following harmonization task:

Harmonize positions on issues related to low-visibility operations. The ARAC Working Group will work on operational and airworthiness issues that apply to air carrier operations in low visibility conditions. The ARAC Working Group will identify harmonization issues in the following areas and will work to reach and document consensus on those issues: Maintenance of harmonization of all weather operations criteria based on experience gained from recent certification programs and operations; evolution of criteria to support Global Navigation Satellite System Landing Systems (GLS); new technologies that are being applied to low visibility operations, and complete harmonization of operating minima criteria and implementation processes. The Group will coordinate information with the FAA/Industry Terminal Area Operations Aviation Rulemaking Committee (TAOARC), JAA All Weather Operations Steering Group (AWOSG), and European Aviation Safety Agency (EASA) for consideration during its activities. This coordination will occur before the All Weather Operations Harmonization Working Group (AWO HWG) presents recommendations to ARAC. By March 2004, the Group will complete and document in a technical report the activity underway to harmonize low visibility operating minima between Europe and the United States.

ARAC Acceptance of Task

ARAC has accepted the task and has chosen to assign the task to the All Weather Operations Harmonization Working Group. Because a new task is being assigned to the working group, membership will be reopened. The working group will serve as staff to ARAC to aid ARAC in the analysis of the assigned task. Working group recommendations must be reviewed and approved by ARAC. If ARAC accepts the working group's recommendations, it forwards them to the FAA as ARAC recommendations.

Working Group Activity

The All Weather Operations Harmonization Working Group is expected to comply with the procedures adopted by ARAC. As part of the procedures, the working group is expected to:

1. Recommend a work plan for completion of the tasks, including the reason supporting such a plan. The work plan should be presented for consideration at the first meeting of the ARAC on air carrier operations issues held following publication of this notice.

2. Give a detailed presentation of the proposed recommendations, before continuing with the work stated in item 3 below.

3. For each task, draft suitable documents with supporting analyses. Draft any other related material or collateral documents the working group determines to be suitable.

4. Provide a status report at each meeting of ARAC held to consider air carrier operations issues.

Participation in the Working Group

The All Weather Operations Harmonization Working Group will be composed of technical experts having an interest in the assigned task. A working group member need not be a representative of a member of the full committee.

An individual who has expertise in the subject matter and wishes to become a member of the working group should write to the person listed under the caption FOR FURTHER INFORMATION CONTACT expressing that desire, describing his or her interest in the tasks, and stating the expertise he or she would bring to the working group. All requests to participate must be received by December 10, 2003. The assistant chair, the assistant executive director, and the working group chair will review the requests, and the individuals will be advised whether the request can be granted.

Individuals chosen for membership on the working group will be expected to represent their aviation community segment and participate actively in the working group (for example, attend all meetings, provide written comments when asked to do so, etc.). They also will be expected to devote the resources necessary to ensure the ability of the working group to meet any assigned deadline(s). Members are expected to keep their management chain advised of working group activities and decisions to ensure the agreed technical solutions do not conflict with their sponsoring organization's position when the subject being negotiated is presented to ARAC for a vote.

Once the working group has begun deliberations, members will not be added or substituted without the approval of the assistant chair, the assistant executive director, and the working group chair.

The Secretary of Transportation has determined the formation and use of ARAC is necessary and in the public interest in connection with the performance of duties imposed on the FAA by law.

Meetings of ARAC will be open to the public. Meetings of the All Weather Operations Harmonization Working Group will not be open to the public, except to the extent those individuals with an interest and expertise are selected to participate. No public announcement of working group meetings will be made.

Issued in Washington, DC, on November 17, 2003.
Anthony F. Fazio,
Executive Director, Aviation Rulemaking Advisory Committee.

[FR Doc. 03-29450 Filed 11-25-03; 8:45 am]

BILLING CODE 4910-13-P